DEPARTMENT OF HOMELAND SECURITY

Federal Emergency Management Agency

[Docket ID FEMA-2017-0002; Internal Agency Docket No. FEMA-B-1700]

Changes in Flood Hazard Determinations

AGENCY: Federal Emergency Management Agency, DHS.3 dual community

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations. The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: February 16, 2017.
Roy E. Wright,
Deputy Associate Administrator for Insurance and Mitigation, Department of Homeland Security, Federal Emergency Management Agency.

State and county | Location and case No. | Chief executive officer of community | Community map repository | Online location of letter of map revision | Effective date of modification | Community No.
Colorado:
Adams | Unincorporated areas of Adams County (16-08-0431P) | The Honorable Steve O'Dorisio, Chairman, Adams County Board of Commissioners, 4430 South Adams County Parkway, Brighton, CO 80601 | Adams County Stormwater Management Division, 4430 South Adams County Parkway, Brighton, CO 80601 | http://www.msc.fema.gov/lomc | May 3, 2017 | 080001
Broomfield | City and County of Broomfield (16-08-0399P) | The Honorable Randy Ahrens, Mayor, City and County of Broomfield, 1 DesCombes Drive, Broomfield, CO 80020 | Engineering Department, 1 DesCombes Drive, Broomfield, CO 80020 | http://www.msc.fema.gov/lomc | Apr. 21, 2017 | 085073
Connecticut: Fairfield | Town of Greenwich (16-01-2255P) | The Honorable Peter Tesei, First Selectman, Town of Greenwich Board of Selectmen, 101 Field Point Road, Greenwich, CT 06830 | Planning and Zoning Department, 101 Field Point Road, Greenwich, CT 06830 | http://www.msc.fema.gov/lomc | Mar. 22, 2017 | 090008
Florida:
Broward | City of Coconut Creek (16-04-7766P) | The Honorable Mikkie Belvedere, Mayor, City of Coconut Creek, 4800 West Copans Road, Coconut Creek, FL 33063 | City Hall, 5295 Johnson Road, Coconut Creek, FL 33073 | http://www.msc.fema.gov/lomc | Mar. 24, 2017 | 120031
Broward | City of Coral Springs (16-04-7766P) | The Honorable Skip Campbell, Mayor, City of Coral Springs, 9551 West Sample Road, Coral Springs, FL 33065 | City Hall, 2730 University Drive, Coral Springs, FL 33065 | http://www.msc.fema.gov/lomc | Mar. 24, 2017 | 120033
Broward | City of Parkland (16-04-7766P) | The Honorable David Rosenof, Mayor, City of Parkland, 6600 University Drive, Parkland, FL 33067 | Building Division, 6600 University Drive, Parkland, FL 33067 | http://www.msc.fema.gov/lomc | Mar. 24, 2017 | 120051
Charlotte | Unincorporated areas of Charlotte County (16-04-6809P) | The Honorable Bill Truex, Chairman, Charlotte County Board of Commissioners, 18500 Murdock Circle, Suite 536, Port Charlotte, FL 33948 | Charlotte County Community Development Department, 18500 Murdock Circle Port Charlotte, FL 33948 | http://www.msc.fema.gov/lomc | Apr. 12, 2017 | 120061
Collier | City of Marco Island (16-04-7301P) | The Honorable Bob Brown, Chairman, City of Marco Island Council, 51 Bald Eagle Drive, Marco Island, FL 34145 | City Hall, 51 Bald Eagle Drive, Marco Island, FL 34145 | http://www.msc.fema.gov/lomc | May 4, 2017 | 120426
Hillsborough | City of Plant City (16-04-6033P) | The Honorable Rick A. Lott, Mayor, City of Plant City, P.O. Box C, Plant City, FL 33563 | Engineering Division, 302 West Reynolds Street, Plant City, FL 33563 | http://www.msc.fema.gov/lomc | Apr. 27, 2017 | 120113
Manatee | City of Bradenton (16-04-6478P) | The Honorable Wayne H. Poston, Mayor, City of Bradenton, 101 Old Main Street West, Bradenton, FL 34205 | City Hall, 101 Old Main Street West, Bradenton, FL 34205 | http://www.msc.fema.gov/lomc | May 2, 2017 | 120155
Manatee | Unincorporated areas of Manatee County (16-04-6478P) | The Honorable Vanessa Baugh, Chair, Manatee County Board of Commissioners, P.O. Box 1000, Bradenton, FL 34206 | Manatee County Building and Development Services Department, 1112 Manatee Avenue West, 4th Floor, Bradenton, FL 34205 | http://www.msc.fema.gov/lomc | May 2, 2017 | 120153
Marion | Unincorporated areas of Marion County (16-04-8287P) | The Honorable Carl Zalak, III, Chairman, Marion, County Board of Commissioners, 601 Southeast 25th Avenue, Ocala, FL 34471 | Marion County Growth Services Zoning Division, 2710 East Silver Springs Boulevard, Ocala, FL 34470 | http://www.msc.fema.gov/lomc | May 3, 2017 | 120160
Miami-Dade | City of Sunny Isles Beach (16-04-6613P) | The Honorable George “Bud” Scholl, Mayor, City of Sunny Isles Beach, 18070 Collins Avenue, Sunny Isles Beach, FL 33160 | Building Department, 18070 Collins Avenue, Sunny Isles Beach, FL 33160 | http://www.msc.fema.gov/lomc | May 5, 2017 | 120688
Monroe | Unincorporated areas of Monroe County (17-04-0132P) | The Honorable Heather Carruthers, Mayor, Monroe County Board of Commissioners, 500 Whitehead Street, Suite 102, Key West, FL 33040 | Monroe County Building Department, 2798 Overseas Highway, Marathon, FL 33050 | http://www.msc.fema.gov/lomc | Apr. 13, 2017 | 125129
Osceola | City of Kissimmee (16-04-5037P) | The Honorable Jose Alvarez, Mayor, City of Kissimmee, 101 Church Street, Kissimmee, FL 34741 | City Hall, 101 Church Street, Kissimmee, FL 34741 | http://www.msc.fema.gov/lomc | Apr. 21, 2017 | 120190
Osceola | City of St. Cloud (16-04-3373P) | The Honorable Nathan Blackwell, Mayor, City of St. Cloud, 1300 9th Street, St. Cloud, FL 34769 | Public Services Department, 1300 9th Street, St. Cloud, FL 34769 | http://www.msc.fema.gov/lomc | May 3, 2017 | 120191
Osceola | Unincorporated areas of Osceola County (16-04-3373P) | The Honorable Viviana Janer, Chair, Osceola County Board of Commissioners, 1 Courthouse Square, Suite 4700, Kissimmee, FL 34741 | Osceola County Community Development Department, 1 Courthouse Square, Suite 1100, Kissimmee, FL 34741 | http://www.msc.fema.gov/lomc | May 3, 2017 | 120189
Seminole | Unincorporated areas of Seminole County (17-04-0173P) | The Honorable John Horan, Chairman, Seminole, County Board of, Commissioners, 1101 East 1st Street, Sanford, FL 32771 | Seminole County Development Review Division, 1101 East 1st Street, Sanford, FL 32771 | http://www.msc.fema.gov/lomc | Apr. 21, 2017 | 120289
Georgia:
Columbia | City of Grovetown (16-04-7990P) | The Honorable Gary Jones, Mayor, City of Grovetown P.O. Box 120, Grovetown, GA 30813 | Planning and Development Department, 103 Old Wrightsboro Road, Grovetown, GA 30813 | http://www.msc.fema.gov/lomc | Mar. 16, 2017 | 130265
Columbia | Unincorporated areas of Columbia County (16-04-7990P) | The Honorable Ron C. Cross, Chairman, Columbia County Board of Commissioners, P.O. Box 498, Evans, GA 30809 | Columbia County Engineering Services Division, 630 Ronald Reagan Drive, Evans, GA 30809 | http://www.msc.fema.gov/lomc | Mar. 16, 2017 | 130059
Louisiana:
Ouachita | City of Monroe (16-06-3067P) | The Honorable Jamie Mayo, Mayor, City of Monroe, 400 Lea Joyner Memorial Expressway, Monroe, LA 71201 | Planning and Zoning Division, 3901 Jackson Street, Monroe, LA 71201 | http://www.msc.fema.gov/lomc | Apr. 28, 2017 | 220136
Ouachita | Unincorporated areas of Ouachita Parish (16-06-3067P) | The Honorable Scotty Robinson, President, Ouachita Parish Police Jury, 301 South Grand Street, Suite 201, Monroe, LA 71201 | Ouachita Parish, Ray Oliver Wright Health Unit, 1650 Desiard Street, Suite 202, Monroe, LA 71201 | http://www.msc.fema.gov/lomc | Apr. 28, 2017 | 220135
Maryland: Worcester | Town of Ocean City (16-03-2683P) | Mr. Douglas R. Miller, Manager, Town of Ocean City, 301 Baltimore Avenue, Ocean City, MD 21842 | Department of Planning and Community Development, 301 Baltimore Avenue, Ocean City, MD 21842 | http://www.msc.fema.gov/lomc | Mar. 24, 2017 | 245207
Massachusetts:
Bristol | Town of Fairhaven, (17-01-0064P) | The Honorable Charles K. Murphy, Sr., Chairman, Town of Fairhaven Board of Selectmen, 40 Center Street, Fairhaven, MA 02719 | Town Hall, 40 Center Street, Fairhaven, MA 02719 | http://www.msc.fema.gov/lomc | Apr. 21, 2017 | 250054
Essex | Town of Essex (16-01-0826P) | The Honorable Lisa J. O'Donnell, Chair, Town of Essex Board of Selectmen, 30 Martin Street, Essex, MA 01929 | Town Hall, 30 Martin Street, Essex, MA 01929 | http://www.msc.fema.gov/lomc | Apr. 10, 2017 | 250080
Essex | Town of Ipswich (16-01-0826P) | Ms. Robin Crosbie, Manager, Town of Ipswich, 25 Green Street, Ipswich, MA 01938 | Town Hall, 25 Green Street, Ipswich, MA 01938 | http://www.msc.fema.gov/lomc | Apr. 10, 2017 | 250086
Norfolk | City of Quincy (17-01-0360X) | The Honorable Thomas P. Koch, Mayor, City of Quincy, 1305 Hancock Street, Quincy, MA 02169 | Department of Public Works, 55 Sea Street, Quincy, MA 02169 | http://www.msc.fema.gov/lomc | Apr. 14, 2017 | 255219
Plymouth | Town of Marion (16-01-2701P) | The Honorable Jonathan E. Dickerson, Chairman, Board of Selectmen, 2 Spring Street, Marion, MA 02738 | Building Department, 2 Spring Street, Marion, MA 02738 | http://www.msc.fema.gov/lomc | Apr. 14, 2017 | 255213
Montana: Flathead | Unincorporated areas of Flathead County (16-08-0919P) | The Honorable Pamela Holmquist, Chair, Flathead County, Board of Commissioners, 800 South Main Street, Suite 302, Kalispell, MT 59901 | Flathead County Planning and Zoning Department, 40 11th Street West, Suite 220, Kalispell, MT 59901 | http://www.msc.fema.gov/lomc | Apr. 20, 2017 | 300023
North Carolina:
Yadkin | Town of Yadkinville (16-04-7376P) | The Honorable Eddie Norman, Mayor, Town of Yadkinville, P.O. Box 816, Yadkinville, NC 27055 | Town Hall, 213 Van Buren Street, Yadkinville, NC 27055 | http://www.msc.fema.gov/lomc | Feb. 9, 2017 | 370640
Yadkin | Unincorporated areas of Yadkin County (16-04-7376P) | The Honorable Kevin Austin, Chairman, Yadkin County Board of Commissioners, P.O. Box 220, Yadkinville, NC 27055 | Yadkin County Planning and Zoning Department, 213 East Elm Street,Yadkinville, NC 27055 | http://www.msc.fema.gov/lomc | Feb. 9, 2017 | 370400
Pennsylvania: Centre | Township of Ferguson (16-03-2371P) | Mr. Mark Kunkle, Manager, Township of Ferguson, 3147 Research Drive, State College, PA 16801 | Ferguson Township Hall, 3147 Research Drive, State College, PA 16801 | http://www.msc.fema.gov/lomc | May 5, 2017 | 420260
South Carolina:
Richland | City of Columbia (14-04-8075P) | The Honorable Stephen K. Benjamin, Mayor, City of Columbia, 1737 Main Street, Columbia, SC 29201 | City Hall, 1737 Main Street, Columbia, SC 29201 | http://www.msc.fema.gov/lomc | Aug. 10, 2015 | 450172
Richland | Unincorporated areas of Richland County (14-04-8075P) | The Honorable Torrey Rush, Chairman, Richland County Council, P.O. Box 192, Columbia, SC 29202 | Richland County Courthouse, 1701 Main Street, Columbia, SC 29202 | http://www.msc.fema.gov/lomc | Aug. 10, 2015 | 450170
South Dakota:
Pennington | City of Box Elder (16-08-1014P) | The Honorable Larry Larson, Mayor, City of Box Elder, 420 Villa Drive, Box Elder, SD 57719 | City Hall, 420 Villa Drive, Box Elder, SD 57719 | http://www.msc.fema.gov/lomc | Apr. 5, 2017 | 460089
Pennington | City of Rapid City (16-08-0839P) | The Honorable Steve Allender, Mayor, City of Rapid City, 300 6th Street, Rapid City, SD 57701 | Public Works and Engineering Services Department, 300 6th Street, Rapid City, SD 57701 | http://www.msc.fema.gov/lomc | Mar. 10, 2017 | 465420
Pennington | Unincorporated areas of Pennington County (16-08-0839P) | The Honorable Lyndell Petersen, Chairman, Pennington County Board of Commissioners, 130 Kansas City Street, Suite 100, Rapid City, SD 57701 | Pennington County Planning Department, 130 Kansas City Street, Suite 200, Rapid City, SD 57701 | http://www.msc.fema.gov/lomc | Mar. 10, 2017 | 460064
Texas:
Bexar | City of San Antonio (16-06-1504P) | The Honorable Ivy R. Taylor, Mayor, City of San Antonio, P.O. Box 839966, San Antonio, TX 78283 | Transportation and Capital Improvements Department, Storm Water Division, 1901 South Alamo Street,San Antonio, TX 78204 | http://www.msc.fema.gov/lomc | Apr. 19, 2017 | 480045
Bexar | City of San Antonio (16-06-2124P) | The Honorable Ivy R. Taylor, Mayor, City of San Antonio, P.O. Box 839966, ISan Antonio, TX 78283 | Transportation and Capital Improvements Department, Storm Water Division, 1901 South Alamo Street, San Antonio, TX 78204 | http://www.msc.fema.gov/lomc | Apr. 27, 2017 | 480045
Bexar | City of San Antonio (16-06-2247P) | The Honorable Ivy R. Taylor, Mayor, City of San Antonio, P.O. Box 839966, San Antonio, TX 78283 | Transportation and Capital Improvements Department, Storm Water Division, 1901 South Alamo Street, San Antonio, TX 78204 | http://www.msc.fema.gov/lomc | Apr. 26, 2017 | 480045
Bexar | City of Schertz (16-06-3179P) | The Honorable Michael Carpenter, Mayor, City of Schertz, 1400 Schertz Pkwy, Schertz, TX 78154 | Public Works Department, 10 Commercial Place, Schertz, TX 78154 | http://www.msc.fema.gov/lomc | Apr. 18, 2017 | 480269
Bexar | Unincorporated areas OF Bexar County (16-08-4345P) | The Honorable Nelson W. Wolff, Bexar County Judge, 101 West Nueva Street, 10th Floor, San Antonio, TX 78205 | Bexar County Public Works Department, 33 North Pecos-La Trinidad Street, Suite 420, San Antonio, TX 78207 | http://www.msc.fema.gov/lomc | Apr. 20, 2017 | 480035 | Bexar | Unincorporated areas of Bexar County (16-08-4363P) | The Honorable Nelson W. Wolff, Bexar County Judge, 101 West Nueva Street, 10th Floor, San Antonio, TX 78205 | Bexar County Public Works Department, 33 North Pecos-La Trinidad Street, Suite 420 San Antonio, TX 78207 | http://www.msc.fema.gov/lomc | May 5, 2017 | 480035
Guadalupe | City of Schertz (16-06-4249P) | The Honorable Michael Carpenter, Mayor, City of Schertz, 1400 Schertz Parkway, Schertz, TX 78154 | Public Works Department, 10 Commercial Place, Schertz, TX 78154 | http://www.msc.fema.gov/lomc | Apr. 12, 2017 | 480269
Harris | City of Houston (16-06-1650P) | The Honorable Sylvester Turner, Mayor, City of Houston, P.O. Box 1562, Houston, TX 77251 | Floodplain Management Department, 1002 Washington Avenue, Houston, TX 77002 | http://www.msc.fema.gov/lomc | Apr. 28, 2017 | 480296
Harris | City of Pasadena (16-06-1957P) | The Honorable Johnny Isbell, Mayor, City of Pasadena, 1211 Southmore Avenue, Pasadena, TX 77502 | Engineering Department, 1114 Davis Street, Pasadena, TX 77502 | http://www.msc.fema.gov/lomc | Apr. 27, 2017 | 480307
Harris | Unincorporated areas of Harris County (16-06-1650P) | The Honorable Edward M. Emmett, Harris County Judge, 1001 Preston Street, Suite 911, Houston, TX 77002 | Harris County Permit Office, 10555 Northwest Freeway, Suite 120, Houston, TX 77092 | http://www.msc.fema.gov/lomc | Apr. 28, 2017 | 480287
Harris | Unincorporated areas of Harris County (16-06-3975P) | The Honorable Edward M. Emmett, Harris County Judge, 1001 Preston Street, Suite 911, Houston, TX 77002 | Harris County Permit Office, 10555 Northwest Freeway, Suite 120, Houston, TX 77092 | http://www.msc.fema.gov/lomc | Apr. 14, 2017 | 480287
Harris | Unincorporated areas of Harris County (17-06-0582X) | The Honorable Edward M. Emmett, Harris County Judge, 1001 Preston Street, Suite 911, Houston, TX 77002 | Harris County Permit Office, 10555 Northwest Freeway, Suite 120, Houston, TX 77092 | http://www.msc.fema.gov/lomc | Apr. 14, 2017 | 480287
Tarrant | City of Keller (16-06-2056P) | The Honorable Mark Mathews, Mayor, City of Keller, P.O. Box 770, Keller, TX 76244 | Public Works Department,1100 Bear Creek Parkway, Keller, TX 76248 | http://www.msc.fema.gov/lomc | Mar. 31, 2017 | 480602
Travis | City of Austin (16-06-3081P) | The Honorable Steve Adler, Mayor, City of Austin, P.O. Box 1088, Austin, TX 78767 | City Hall, 505 Barton Springs Road, 12th Floor Austin, TX 78703 | http://www.msc.fema.gov/lomc. | May 1, 2017 | 480624
Travis | City of Pflugerville (16-06-3121P) | The Honorable Jeff Coleman, Mayor, City of Pflugerville P.O. Box 589, Pflugerville, TX 78660 | Development Services Department, 201-B East Pecan Street, Pflugerville, TX 78691 | http://www.msc.fema.gov/lomc | Apr. 10, 2017 | 481028
Travis | Unincorporated areas of Travis County (16-06-3081P) | The Honorable Sarah Eckhardt, Travis County Judge, P.O. Box 1748, Austin, TX 78767 | Travis County Department of Transportation and Natural Resources, 700 Lavaca Street, 5th Floor, Austin, TX 78767 | http://www.msc.fema.gov/lomc | May 1, 2017 | 481026
Virginia:
Chesterfield | Unincorporated areas of Chesterfield County (16-03-1954P) | The Honorable Steve A. Elswick, Chairman, Chesterfield County Board of Supervisors, P.O. Box 40, Chesterfield, VA 23832 | Chesterfield County Department of Environmental Engineering, 9800 Government Center Parkway, Chesterfield, VA 23832 | http://www.msc.fema.gov/lomc | Apr. 26, 2017 | 510035
Henrico | Unincorporated areas of Henrico County (16-03-1954P) | The Honorable Tyrone E. Nelson, Chairman, Henrico County Board of Supervisors, P.O. Box 90775, Henrico, VA 23273 | Henrico County Department of Public Works, 4301 East Parham Road, Henrico, VA 23228 | http://www.msc.fema.gov/lomc | Apr. 26, 2017 | 510077
Washington, DC | District of Columbia (16-03-2348P) | The Honorable Muriel Bowser, Mayor, District of Columbia, 1350 Pennsylvania Avenue Northwest, Washington, DC 20004 | Department of Energy and Environment, 1200 1st Street, Northeast, 5th Floor, Washington, DC 20002 | http://www.msc.fema.gov/lomc | Apr. 17, 2017 | 110001

[FR Doc. 2017-04883 Filed 3-10-17; 8:45 am]

BILLING CODE 9110-12-P